DEPARTMENT OF THE INTERIOR

National Park Service

[NPS-WASO-NRNHL-16169; PPWOCRADI0, PCU00RP14.R50000]

National Register of Historic Places; Notification of Pending Nominations and Related Actions

Nominations for the following properties being considered for listing or related actions in the National Register were received by the National Park Service before July 5, 2014. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by August 19, 2014. Before including your address, phone number, email address, or other personal identifying information in your comment, you should be aware that your entire comment—including your personal identifying information—may be made publicly available at any time. While you can ask us in your comment to withhold your personal identifying information from public review, we cannot guarantee that we will be able to do so.

Dated: July 11, 2014.
J. Paul Loether,
Chief, National Register of Historic Places/National Historic Landmarks Program.

NEW YORK

Albany County

Livingston, Philip, Junior High School, 315 Northern Blvd., Albany, 14000485

Dutchess County

Corlies—Ritter—Hart House, 103 S. Hamilton St., Poughkeepsie, 14000486

Morschauser, Charles, House, 115 Hooker Ave., Poughkeepsie, 14000487

Violet Avenue School, 191 Violet Ave., Poughkeepsie, 14000488

Erie County

Public School No. 60, 238 Ontario St., Buffalo, 14000489

Nassau County

Landsberg, William, House, 5 Tianderah Rd., Port Washington, 14000490

NORTH CAROLINA

Ashe County

Clark—Miller Roller Mill, (Ashe County, North Carolina, c. 1799-1955 MPS) 180 Long Branch Rd., Lansing, 14000491

Columbus County

Black Rock Plantation House, 7875 Old Stage Rd., Riegelwood, 14000492

Forsyth County

Chatham, Thurmond and Lucy, House, 112 N. Stratford St., Winston-Salem, 14000493

Reynolds Building, 51 E. 4th St., Winston-Salem, 14000494

Guilford County

Gibsonville School, 500 Church St.,

Gibsonville, 14000495

Randolph County

Acme—McCrary Hosiery Mills, 124, 148, 159 North & 173 N. Church Sts., Asheboro, 14000496

TEXAS

Fayette County

East Navidad River Bridge, FM 1579 at East Navidad R., Schulenburg, 14000497

Parker County

Chandor Gardens, 711 W. Lee St., Weatherford, 14000498

Travis County

West Sixth Street Bridge at Shoal Creek, W. 6th St. at Shoal Cr., Austin, 14000499

WASHINGTON

Cowlitz County

Nutty Narrows Bridge, Olympic Way between 18th Ave. & Maple St., Longview, 14000500

Lewis County

Lewis County Courthouse, 351 NW. North St., Chehalis, 14000501

WISCONSIN

Brown County

Krause, Julius, Store Building, 106 S. Broadway, De Pere, 14000502

Vernon County

Cunningham, Bert and Mary, Round Barn, (Wisconsin Centric Barns MPS) E7702 A Upper Maple Dale Rd., Viroqua, 14000503

A request for removal has been received for the following resources:

INDIANA

Putnam County Appleyard, Address Restricted, Greencastle, 90000325

TEXAS

Bosque County

Bosque County Jail, 203 E. Morgan, Meridian, 79002918

Harris County

General Mercantile Store, 7322 N. Main St., Houston, 14000498

[FR Doc. 2014-18283 Filed 8-1-14; 8:45 am]

BILLING CODE 4312-51-P